COMMITTEE FOR PURCHASE FROM PEOPLE WHO ARE BLIND OR SEVERELY DISABLED

Procurement List; Proposed Deletions

AGENCY: Committee for Purchase From People Who Are Blind or Severely Disabled.

ACTION: Proposed Deletions From the Procurement List.

SUMMARY: The Committee is proposing to delete products from the Procurement List that was previously furnished by nonprofit agencies employing persons who are blind or have other severe disabilities.

Comments Must Be Received on or Before: 1/30/2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION:

This notice is published pursuant to 41 U.S.C. 8503(a)(2) and 41 CFR 51-2.3. Its purpose is to provide interested persons an opportunity to submit comments on the proposed actions.

Deletions

The following products are proposed for deletion from the Procurement List:

Products

NSN(s)—Product Name(s): 7530-01-047-3738—Paper, Writing

Mandatory Source(s) of Supply: Louisiana Association for the Blind, Shreveport, LA

Contracting Activity: General Services Administration, New York, NY

NSN(s)—Product Name(s): 7520-00-240-5498—Clipboard, Arch

Mandatory Source(s) of Supply: Industries of the Blind, Inc., Greensboro, NC

Contracting Activity: General Services Administration, New York, NY

NSN(s)—Product Name(s): 7210-01-035-3342—Pillow, Bed

Mandatory Source(s) of Supply: Ed Lindsey Industries for the Blind, Inc., Nashville, TN

Contracting Activity: General Services Administration, Fort Worth, TX

NSN(s)—Product Name(s): 6545-00-NSH-2000—Module, Medical System, FRSS

Mandatory Source(s) of Supply: Louise W. Eggleston Center, Inc., Norfolk, VA

Contracting Activity: Dept of the Navy, Commander, Quantico, VA

NSN(s)—Product Name(s): 7920-00-NIB-0373—Shovel, Ergo Snow

Mandatory Source(s) of Supply: Industries for the Blind, Inc., West Allis, WI

Contracting Activity(ies): General Services Administration, Fort Worth, TX

Department of Veterans Affairs, NAC, Hines, IL

NSN(s)—Product Name(s): 7210-00-082-2081—Cover, Mattress

Mandatory Source(s) of Supply: Lions Services, Inc., Charlotte, NC

Contracting Activity: General Services Administration, Fort Worth, TX

NSN(s)—Product Name(s): 7210-00-935-6619—Cover, Mattress, Natural, 36″ × 82″

Mandatory Source(s) of Supply: Lions Services, Inc., Charlotte, NC

Contracting Activity: Defense Logistics Agency Troop Support, Philadelphia, PA

NSN(s)—Product Name(s): 7920-00-926-5492—Mophead, Wet

Mandatory Source(s) of Supply: Lighthouse for the Blind and Visually Impaired, San Francisco, CA

Mississippi Industries for the Blind, Jackson, MS

Contracting Activity: General Services Administration, Fort Worth, TX

NSN(s)—Product Name(s): 7920-00-240-2559—Sponge, Cellulose

Mandatory Source(s) of Supply: Mississippi Industries for the Blind, Jackson, MS

Contracting Activity: General Services Administration, Fort Worth, TX

NSN(s)—Product Name(s): 7920-00-NIB-0301—Handle, Wood

Mandatory Source(s) of Supply: LC Industries, Inc., Durham, NC

Contracting Activity: General Services Administration, Fort Worth, TX

Product Name(s)—NSN(s): Flatware, Plastic, Totally Degradable

7340-01-486-1858

7340-01-486-1859

7340-01-486-2767

7340-01-486-3657

Mandatory Source(s) of Supply: LC Industries, Inc., Durham, NC

Contracting Activity: General Services Administration, Fort Worth, TX

Product Name(s)—NSN(s): Pen, Essential LVX Translucent and refills

7510-01-454-1172

7510-01-454-1175

Mandatory Source(s) of Supply: Industries for the Blind, Inc., West Allis, WI

Contracting Activity: General Services Administration, New York, NY

NSN(s)—Product Name(s): 6840-00-NIB-0044—Prof Lysol Brand II Aerosol Disinfectant Spray

Mandatory Source(s) of Supply: LC Industries, Inc., Durham, NC

Contracting Activity: General Services Administration, New York, NY

NSN(s)—Product Name(s): 6840-01-383-0739—Disinfectant, Detergent—CPAL Item

7930-01-398-0947—Glass Cleaner—CPAL Item

7930-01-398-0948—Glass Cleaner—CPAL Item

7930-01-398-0949—Detergent, General Purpose—CPAL Item

7930-01-463-5064—Floor Care Products

Mandatory Source(s) of Supply: Lighthouse for the Blind of Houston, Houston, TX

Contracting Activity: General Services Administration, Fort Worth, TX

Product Name(s)—NSN(s): Bedspread

7210-00-728-0177

7210-00-728-0178

7210-00-728-0179

7210-00-728-0190—Cream, 63″ × 103″

7210-00-728-0191—Dark Green, 63″ × 103″

Mandatory Source(s) of Supply: Alabama Industries for the Blind, Talladega, AL

Contracting Activity: General Services Administration, Fort Worth, TX

Product Name(s)—NSN(s): Cover, Mattress

7210-00-205-3082—Pre-Shrunk, White, 85″ × 40″ × 6⅛″

7210-00-205-3083—Bleached, White, 36″ × 81″ × 6⅛″

7210-00-230-1041—Bleached, Pre-Shrunk, White, Twin, 77½″ × 31″

7210-00-291-8419—White, 36″ × 77″ × 6⅛″

7210-00-883-8492—White, 43½″ × 82½″

Mandatory Source(s) of Supply: Lions Services, Inc., Charlotte, NC

LC Industries, Inc., Durham, NC

The Arkansas Lighthouse for the Blind, Little Rock, AR

Contracting Activity: General Services Administration, Fort Worth, TX

Barry S. Lineback,
Director, Business Operations.

[FR Doc. 2015-32948 Filed 12-30-15; 8:45 am]

BILLING CODE 6353-01-P